ADVISORY COUNCIL ON HISTORIC PRESERVATION

Notice of Availability of Environmental Assessment and Finding of No Significant Impact

AGENCY: Advisory Council on Historic Preservation.

ACTION: Notice of Availability of Environmental Assessment and Finding of No Significant Impact.

Authority: 42 U.S.C. 4321 et seq.; 36 CFR part 805.

SUMMARY: An environmental assessment on the Council's proposed revisions of its regulations implementing Section 106 of the National Historic Preservation Act was prepared in accordance with the National Environmental Policy Act (NEPA), 42 U.S.C. 4321 et seq., and the Advisory Council on Historic Preservation's NEPA regulations, 36 CFR Part 805. The environmental assessment made a preliminary determination that promulgation of the revised regulations would not have a significant impact on the quality of the human environment and that preparation of an environmental impact statement would not be necessary. Notice of the availability of the environmental assessment and preliminary determination of no significant impact, and of a 30-day public comment period was published in the Federal Register on July 11, 2000 (65 FR 42850). The Council has considered the comments received and has found that the proposed action will have no significant impact on the human environment. Copies of the environmental assessment and finding of no significant impact may be obtained by contacting the person listed below.

FOR FURTHER INFORMATION CONTACT: Javier Marqués, Assistant General Counsel, Advisory Council on Historic Preservation, 1100 Pennsylvania Avenue, NW., Suite 809, Washington, DC 20004. (202) 606-8503.

Dated: December 4, 2000.
John M. Fowler,
Executive Director.

[FR Doc. 00-31254 Filed 12-7-00; 8:45 am]

BILLING CODE 4310-10-M